DEPARTMENT OF AGRICULTURE

Food and Nutrition Service

Agency Information Collection Activities: Proposed Collection; Comment Request—School Nutrition and Meal Cost Study

AGENCY: Food and Nutrition Service, USDA.

ACTION: Notice.

SUMMARY: In accordance with the Paperwork Reduction Act of 1995, the Food and Nutrition Service (FNS) invites the general public and other public agencies to comment on this proposed information collection. This collection is a new collection for the School Nutrition and Meal Cost Study.

DATES: Written comments on this notice must be received on or before December 2, 2013.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to: John Endahl, Senior Program Analyst, Office of Policy Support, Food and Nutrition Service, U.S. Department of Agriculture, 3101 Park Center Drive, Room 1004, Alexandria, VA 22302. Comments may also be submitted via fax to the attention of John Endahl at 703-305-2576 or via email to john.endahl@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to John Endahl at 703-305-2127.

SUPPLEMENTARY INFORMATION:

Title: School Nutrition and Meal Cost Study.

Form Number: N/A.

OMB Number: Not yet assigned.

Expiration Date: Not yet determined.

Type of Request: New collection.

Abstract: The School Nutrition and Meal Cost Study (SNMCS) comes at a time of unprecedented change for the National School Lunch Program (NSLP) and School Breakfast Program (SBP). In the 2012-2013 school year (SY), the school meal programs began to undergo far-reaching changes, mainly stemming from the Healthy, Hunger Free Kids Act (HHFKA). Key reforms enacted by this legislation include new, more stringent meal pattern and nutrient requirements for school meals, new offer-versus-serve (OVS) rules, gradually increased prices for paid meals, and introduction of nutrition standards for competitive foods. School food service practices are being revised dramatically. Changes in practices, prices, and available foods may influence which students participate in the programs. The new requirements are intended to better align USDA meals and snacks with the Dietary Guidelines for Americans and to improve participating students' food and nutrient intake. Complying with the new requirements might affect the costs of producing school lunches and breakfasts. Conducting the SNMCS at this historic juncture will provide FNS with crucial information about the effects of the new meal standards on nutritional quality and the cost of school meals. No national study has concurrently examined the cost of producing school meals, the nutritional profile of school meals and the amount of plate waste in school meals.

The SNMCS will collect a broad range of data from nationally representative samples of public school food authorities (SFAs), schools, students, and parents during SY 2014-2015. These data will provide Federal, State, and local policymakers with needed information about how federally sponsored school meal programs are operating after implementation of the new nutrition standards and other changes in regulations. Comparisons of results from the SNMCS with previous studies (the School Nutrition and Dietary Assessment [SNDA] and the School Lunch and Breakfast Cost [SLBC] studies) will provide information to assess the effects of the new nutrition standards on foodservice operations, the nutrient content of school meals as offered and served, meal costs and revenues, and student consumption of school meals and dietary intake. The SNMCS will be the first assessment of school meals after implementation of these major changes.

The SNMCS sample will include 502 unique SFAs, 1,200 schools, 2,400 students and their parents, and observations of plate waste from 5,040 lunches and 3,360 breakfasts. The sample is designed to provide required levels of statistical precision and data quality while minimizing data collection costs and respondent burden. The SNMCS sample will be divided into three groups of SFAs, with various levels of data collected from each group. The data collection includes the administration of several different types of instruments and modes, including self-administered web-based SFA director and school principal surveys, a food service manager survey, an electronic menu survey, competitive foods checklists, cafeteria environment observation, plate waste observation, Automated Multiple Pass Method 24-hour dietary recalls, measurement of student's height and weight, student/parent surveys, meal cost interviews, and collection of administrative cost data.

Affected Public: Respondent groups include: (1) Directors of school food authorities (SFAs); (2) State child nutrition officials; (3) local education agency business managers, (4) school foodservice managers (FSMs); (5) principals; (6) school staff appointed by principals to complete observation checklists (school liaisons); and (7) students and their parents.

Estimated Number of Respondents: The proposed final samples will include 502 unique SFAs; 1,200 schools; 2,400 students and their parents; and 5,040 and 3,360 plate waste observations at lunch and breakfast, respectively. Group 1 includes 106 SFAs but no schools. These SFAs will participate in the SFA Director Survey to provide the precision required for estimates of SFA characteristics and policies. Group 2 comprises 100 SFAs and 300 schools. The Group 2 sample will include the 4 largest SFAs and 12 schools sampled from them plus a sample of 96 other SFAs and 288 of their schools (3 per SFA). Group 2 SFAs and schools will participate in the SFA Director Survey, FSM Survey, and Principal Survey; in addition, their FSMs will complete the Basic Menu Survey. Interviews will be completed with 2,400 students and their parents from these schools to provide information on meal program participation, satisfaction, and students' dietary intake from school meals and food outside school over 24 hours. Group 3 includes 300 SFAs and 900 schools (3 per SFA). The Group 3 sample will include the 4 largest SFAs and 12 of their schools, plus a sample of 296 other SFAs and 888 of their schools (3 per SFA). This group includes participants in the SFA Director Survey, Pre-Visit SFA Director Questionnaire and Forms, SFA Director and Business Manager Cost Interviews and follow-up interviews, interviews to collect administrative data on food prices, FSM Survey, and Principal Survey. The additional cost interviews from this group will provide data for the meal cost estimates, along with completing the Expanded Menu Survey. Plate waste will be observed at a subsample of Group 3 schools; we will observe 5,040 NSLP lunches and 3,360 SBP breakfasts from 56 SFAs and 168 schools. In both the Group 2 and 3 schools, school liaisons will complete two checklists to provide information on competitive foods, and interviewers will complete a Cafeteria Observation Form.

Estimated Number of Responses per Respondent: All respondents will be asked to respond to each instrument only once.

Estimated Total Annual Responses: 24,031.

Estimated Time per Response: 55 minutes (0.91 hours). The estimated response varies from 15 minutes to 600 minutes (10 hours), depending on the survey and the respondent group, as shown in the following table.

Estimated Total Annual Burden on Respondents: 21,912. See the table below for each type of respondent.

Affected public | Data collection activity | Respondents | Estimated number of respondents | Frequency of response | Total annual responses | Average burden hours per response | Total annual burden estimate (hours)
State | Telephone Survey (Administrative Data on Indirect Cost Rates) | Non-respondents | 3 | 1 | 3 | 0.07 | 0.2
|  | State education agency financial officer (Group 3) | 47 | 1 | 47 | 0.33 | 16
Local and Tribal | Self-Administered Web Survey (Basic Menu Survey) | Non-respondents | 15 | 1 | 15 | 0.07 | 1
|  | Foodservice managers (Group 2) | 300 | 1 | 300 | 8 | 2,400
Local and Tribal | Self-Administered Web Survey (Expanded Menu Survey) | Non-respondents | 49 | 1 | 49 | 0.07 | 3
|  | Foodservice managers (Group 3) | 975 | 1 | 975 | 10 | 9,750
Local and Tribal | Self-Administered Web Survey (SFA Director Survey) | Non-respondents | 41 | 1 | 41 | 0.07 | 3
|  | SFA directors (Groups 1, 2, 3) | 366 | 1 | 366 | 0.67 | 245
Local and Tribal | Self-Administered Web Survey (FSM Survey) | Non-respondents | 64 | 1 | 64 | 0.07 | 5
|  | Foodservice managers (Groups 2, 3) | 1,200 | 1 | 1,200 | 0.33 | 396
Local and Tribal | Self-Administered Web Survey (Principal Survey) | Non-respondents | 127 | 1 | 127 | 0.07 | 9
|  | Principals (Groups 2 and 3) | 1,137 | 1 | 1,137 | 0.5 | 569
Local and Tribal | Telephone Survey (SFA Director Planning Interview) | Non-respondents | 2 | 1 | 2 | 0.07 | 0.1
|  | SFA directors (Group 2) | 73 | 1 | 73 | 0.33 | 24
Local and Tribal | Self-Administered Web Survey (SFA Director Pre-visit Questionnaire and Forms) | Non-respondents | 7 | 1 | 7 | 0.07 | 0.5
|  | SFA directors (Group 3) | 219 | 1 | 219 | 0.83 | 182
Local and Tribal | In-person Interview (SFA Director and Business Manager Cost Interview) | Non-respondents | 11 | 1 | 11 | 0.07 | 0.8
|  | SFA Directors/LEA business managers (Group 3) | 219 | 1 | 219 | 3 | 657
Local and Tribal | Telephone Survey (FSM Pre-visit Questionnaire) | Non-respondents | 45 | 1 | 45 | 0.07 | 3
|  | Foodservice managers (Group 3) | 900 | 1 | 900 | 0.25 | 225
Local and Tribal | In-person Interview (FSM Cost Interview) | Non-respondents | 49 | 1 | 49 | 0.07 | 3
|  | Foodservice managers (Group 3) | 975 | 1 | 975 | 0.5 | 488
Local and Tribal | Telephone Survey (Principal Cost Interview) | Non-respondents | 45 | 1 | 45 | 0.07 | 3
|  | Principals (Group 3) | 900 | 1 | 900 | 0.75 | 675
Local and Tribal | In-person Interview (Follow-Up SFA Director Prep Forms) | Non-respondents | 11 | 1 | 11 | 0.07 | 0.8
|  | SFA directors/LEA business managers (Group 3) | 208 | 1 | 208 | 0.17 | 35
Local and Tribal | In-person Interview (Follow-Up SFA Director and Business Manager Cost Interview) | Non-respondents | 11 | 1 | 11 | 0.07 | 0.8
|  | SFA directors/LEA business managers (Group 3) | 208 | 1 | 208 | 2 | 416
Local and Tribal | In-person Interview (Competitive Foods Checklist) | Non-respondents | 190 | 1 | 190 | 0.07 | 13
|  | School staff liaisons (Groups 2 and 3) | 760 | 1 | 760 | 0.5 | 380
Local and Tribal | Self-Administered Observation Form (Point-of-Sale Form) | Foodservice managers (Group 2) | 300 | 1 | 300 | 0.17 | 51
Local and Tribal | Self-Administered Observation Form (Plate Waste Observations) | Foodservice managers (Group 3) | 168 | 1 | 168 | 0.17 | 29
Subtotal State, Local & Tribal Governments |  |  | 9,625 | 1 | 9,625 | 1.72 | 16,583
Private Sector for-Profit | Self-Administered Web Survey (SFA Director Survey) | Non-respondents | 15 | 1 | 15 | 0.07 | 1
|  | SFA directors (Groups 1, 2, 3) | 136 | 1 | 136 | 0.67 | 91
Private Sector for-Profit | Telephone Survey (SFA Director Planning Interview) | Non-respondents | 1 | 1 | 1 | 0.07 | 0.1
|  | SFA directors (Group 2) | 27 | 1 | 27 | 0.33 | 9
Private Sector or-Profit | Self-Administered Web Survey (SFA Director Pre-visit Questionnaire) | Non-respondents | 2 | 1 | 2 | 0.07 | 0.1
|  | SFA directors (Group 3) | 81 | 1 | 81 | 0.83 | 67
Private Sector for-Profit | In-person Interview (SFA Director and Business Manager Cost Interview) | Non-respondents | 4 | 1 | 4 | 0.07 | 0.3
|  | SFA directors/LEA business managers (Group 3) | 81 | 1 | 81 | 3 | 243
Private Sector for-Profit | In-person Interview (Follow Up SFA Director Prep Forms) | Non-respondents | 4 | 1 | 4 | 0.07 | 0.3
|  | SFA directors/LEA business managers (Group 3) | 77 | 1 | 77 | 0.17 | 13
Private Sector for-Profit | In-person Interview (Follow-Up SFA Director and Business Manager Cost Interview) | Non-respondents | 4 | 1 | 4 | 0.07 | 0.3
|  | SFA directors/LEA business managers (Group 3) | 77 | 1 | 77 | 2 | 154
Subtotal Private Sector for-Profit Business |  |  | 509 | 1 | 509 | 1.13 | 579.1
Individual | In-person Interview (24-Hour Dietary Recall, Day 1) | Non-respondents | 359 | 1 | 359 | 0.07 | 25
|  | Students | 2,400 | 1 | 2,400 | 0.83 | 1992
|  | Parents | 800 | 1 | 800 | 0.50 | 400
Individual | Telephone Survey (24-Hour Dietary Recall, Day 2) | Non-respondents | 106 | 1 | 106 | 0.07 | 7
|  | Students | 600 | 1 | 600 | 0.75 | 450
|  | Parents | 200 | 1 | 200 | 0.75 | 150
Individual | Self-Administered Form (Food Diary, Day 1) | Non-respondents | 120 | 1 | 120 | 0.07 | 8
|  | Parents | 800 | 1 | 800 | 0.17 | 136
Individual | Self-Administered Form (Food Diary, Day 2) | Non-respondents | 35 | 1 | 35 | 0.07 | 3
|  | Parents | 200 | 1 | 200 | 0.17 | 34
Individual | In-person Interview (Child/Youth Interview) | Non-respondents | 359 | 1 | 359 | 0.07 | 25
|  | Students | 2,400 | 1 | 2,400 | 0.17 | 408
Individual | In-person or Telephone Interview (Parent Interview) | Non-respondents | 359 | 1 | 359 | 0.07 | 25
|  | Parents | 2,400 | 1 | 2,400 | 0.42 | 1008
Individual | In-person Interview (Height and Weight Measurement Form) | Non-respondents | 359 | 1 | 359 | 0.02 | 7
|  | Students | 2,400 | 1 | 2,400 | 0.03 | 72
Subtotal Individuals |  |  | 13,897 | 1 | 13,897 | 0.34 | 4,750
Grand Total |  |  | 24,031 | 1 | 24,031 |  | 21,912

Dated: September 26, 2013.
Audrey Rowe,
Administrator, Food and Nutrition Service.

[FR Doc. 2013-24142 Filed 10-2-13; 8:45 am]

BILLING CODE 3410-30-P